DEPARTMENT OF HEALTH AND HUMAN SERVICES

Food and Drug Administration

[Docket No. FDA-2018-N-3030]

Site Visit Training Program for Office of Pharmaceutical Quality Staff; Information Available to Industry

AGENCY: Food and Drug Administration, HHS.

ACTION: Notice.

SUMMARY: The Food and Drug Administration's (FDA's) Center for Drug Evaluation and Research (CDER) is announcing an invitation for participation in the Fiscal Year (FY) 2020 CDER Office of Pharmaceutical Quality (OPQ) Staff Experiential Learning Site Visit Program. The purpose of this document is to invite pharmaceutical companies interested in participating in this program to submit a site visit proposal to CDER's OPQ.

DATES: Submit either electronic or written proposals for participation in this program by November 18, 2019. See SUPPLEMENTARY INFORMATION for information on what to include in such proposals.

ADDRESSES: If your facility is interested in offering a site visit, submit either an electronic proposal to CDEROPQSiteVisits@fda.hhs.gov or a written proposal to Janet Wilson, Center for Drug Evaluation and Research, Food and Drug Administration, 10903 New Hampshire Ave., Bldg. 75, Rm. 4642, Silver Spring, MD 20993-0002.

FOR FURTHER INFORMATION CONTACT: Janet Wilson, Center for Drug Evaluation and Research, Food and Drug Administration, 10903 New Hampshire Ave., Bldg. 75, Rm. 4642, Silver Spring, MD 20993-0002, 240-402-3969, email: CDEROPQSiteVisits@fda.hhs.gov.

SUPPLEMENTARY INFORMATION:

I. Background

A critical part of the commitment by CDER to make safe and effective high-quality drugs available to the American public is gaining an understanding of all aspects of a drug's development and commercial life cycle, including the variety of drug manufacturing operations. To support this commitment, CDER has initiated various training and development programs including the FY2020 Experiential Learning Site Visit program. This site visit program is designed to offer experiential and firsthand learning opportunities that will provide OPQ staff with a better understanding of the pharmaceutical industry and its operations, as well as the challenges that impact a drug's developmental program and commercial life cycle. The goal of these visits is to enhance OPQ staff exposure to the drug development and manufacturing processes in industry; therefore, a tour of pharmaceutical company facilities, including manufacturing and laboratory operations, is an integral part of the experience.

II. The Site Visit Program

In this site visit program, groups on average of 15 to 20 OPQ staff who have experience in a variety of backgrounds, including science, medicine, statistics, manufacturing, engineering, testing, and project management will observe operations of commercial manufacturing, pilot plants (if applicable), and testing over a 1- to 2-day period. To facilitate the learning process for OPQ staff, overview presentations by industry related to drug development, manufacturing, and testing may be included.

OPQ encourages companies engaging in the development and manufacturing of both active pharmaceutical ingredients (small and large molecules) and drug products to respond. Please note that this site visit program is not intended to supplement or replace a regulatory inspection, e.g., a preapproval inspection, pre-license inspection, or a surveillance inspection.

The OPQ staff participating in this program will benefit by gaining a better understanding of current industry practices, processes, and procedures. Participating sites will have an opportunity to showcase their technologies and actual manufacturing and testing facilities.

Although observation of all aspects of drug development and production would be beneficial to OPQ staff, OPQ has identified a number of areas of particular interest to its staff. The following list identifies some examples of these areas but is not intended to be exhaustive, mutually exclusive, or to limit industry response:

• Drug products

○ Solutions, suspensions, emulsions, and semisolids

○ Modified- and immediate-release formulations

○ Drug-device combination products (e.g., inhalation products, transdermal systems, implants intended for drug delivery, and pre-filled syringes)

• Active pharmaceutical ingredients

○ Made entirely by chemical synthesis

○ Derived from a biological source (e.g., fermentation, mammalian cell culture)

• Design, development, manufacturing, and controls

○ Engineering controls for aseptic processes

○ Novel delivery technologies

○ Hot melt extrusion

○ Soft-gel encapsulation

○ Lyophilization

○ Blow-Fill-Seal and isolators

○ Spray-drying

○ Process analytical technology, measurement systems, and real-time release testing

• Emerging technologies

○ Continuous manufacturing

○ 3-dimensional printing

○ Nanotechnology

III. Site Selection

Selection of potential facilities will be based on the priorities developed for OPQ staff training, the facility's current compliance status with FDA, and in consultation with the appropriate FDA district office. All travel expenses associated with this program will be the responsibility of OPQ; therefore, selection will be based on the availability of funds and resources for the fiscal year. OPQ will not provide financial compensation to the pharmaceutical site as part of this program.

IV. Proposals for Participation

Companies interested in offering a site visit or learning more about this site visit program should respond by submitting a proposal directly to Janet Wilson (see ADDRESSES and FOR FURTHER INFORMATION CONTACT). To aid in OPQ's site selection and planning, your proposal should include the following information:

• A contact person

• The site visit location or locations

• A Facility Establishment Identifier (FEI) and any applicable Data Universal Numbering System (DUNS) numbers

• The maximum number of FDA staff that can be accommodated during a site visit (maximum of 20)

• A proposed agenda outlining the learning objectives and associated activities for the site visit

• The maximum number of site visits (no more than two) that your site would be willing to host by the close of the government fiscal year (September 30, 2020)

• The proposed dates for each site visit

Please note that the requested proposed agenda will be reviewed to determine the educational benefit to OPQ in conducting the visit, and selected sites may be asked to refine the agenda to maximize the educational benefit. After a site is selected, OPQ will communicate with the contact person for the site to determine the actual dates for the visit. Proposals submitted without this minimum information will not be considered. Based on response rate and type of responses, OPQ may or may not consider alternative pathways to meeting our training goals.

Dated: October 11, 2019.
Lowell J. Schiller,
Principal Associate Commissioner for Policy.

[FR Doc. 2019-22767 Filed 10-17-19; 8:45 am]

BILLING CODE 4164-01-P